DEPARTMENT OF DEFENSE

Office of the Secretary

DoD Medicare-Eligible Retiree Health Care Board of Actuaries

Agency: Department of Defense.

ACTION: Notice of meeting.

SUMMARY: The Department of Defense published a notice March 2, 2009 (74 FR 9085) announcing a meeting of the DoD Medicare-Eligible Retiree Health Care Board of Actuaries that will take place July 31, 2009. This notice is being published to correct the suite number for the meeting location. The meeting will be held in Suite 250 instead of Suite 270. All other information remains the same.

ADDRESSES: 4040 N. Fairfax Drive, Suite 250, Arlington, VA 22203.

FOR FURTHER INFORMATION CONTACT: Margot Kaplan, 703-696-7404.

Dated: March 31, 2009.
Patricia L. Toppings,
OSD Federal Register Liaison Officer, Department of Defense.

[FR Doc. E9-7600 Filed 4-3-09; 8:45 am]

BILLING CODE 5001-06-P